DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on December 20, 2004 unless comments are received that would result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 696-6280.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on October 25, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 12, 2004.
Jeannette Owings-Ballard,
OSD Federal Register Liaison Officer, Department of Defense.

F036 SAFLL A

System name:

Presidential Letter of Appreciation Request System (PLARS).

System location:

Secretary of the Air Force, Legislative Liaison, Congressional Inquiries, 1160 Air Force Pentagon, Washington, DC 20330-1160.

Categories of individuals covered by the system:

Active duty Air Force military personnel, Air Force Reserve and Air National Guard personnel; and Air Force civilian employees.

Categories of records in the system:

First and last name and middle initial; title (Mr., Mrs., or Ms.); mailing address; service (Regular, Guard, Reserve, or civilian); rank; years of service; last four digits of the retiree's Social Security Number; name of requesting Military Personnel Flight (MPF) or Commander; point-of-contact name and mailing address; date of retirement; date of retirement ceremony.

Authority for maintenance of the system:

10 U.S.C. 8013, Secretary of the Air Force; DoD Instruction 1348.34, Presidential Recognition on Retirement from Military Service; and Air Force Instruction 36-3203, Service Retirements.

Purpose(s):

To process requests for Presidential Letters of Appreciation for appropriate retirees and to submit retiree information in support of the requests, to generate White House memoranda, and to generate reports on the number of submitted, processed, on-hold, rejected, and archived requests during a given period.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the White House to obtain Presidential letters of appreciation for retirees.

The DoD ‘Blanket Routine Uses’ published at the beginning of the Air Force's compilation of systems of records notices apply to this system.

Policies and practices for storing, retrieving, accessing, retaining, and disposing of records in the system:

Storage:

Maintained in file folders, in computers, and on computer output and storage products.

Retrievability:

Retrieved by name.

Safeguards:

Records are accessed by person(s) responsible for servicing the record system in performance of their official duties and by authorized personnel who are properly screened and cleared for need-to-know. Records are stored in locked rooms and cabinets. Those in computer storage devices are protected by computer system software.

Retention and disposal:

Destroy after two years.

System manager(s) and address:

System administrator, Secretary of the Air Force, Legislative Liaison, Congressional Inquiries Office, 1160 Air Force Pentagon, Washington, DC 20330-1160.

Notification procedure:

Individuals inquiring about information on themselves contained in the system should submit written inquiries to the Secretary of the Air Force, Legislative Liaison, Congressional Inquiries Office, 1160 Air Force Pentagon, Washington, DC 20330-1160.

Record access procedures:

Individuals seeking to access information on themselves contained in the system should submit written inquiries to the Secretary of the Air Force, Legislative Liaison, Congressional Inquiries Office, 1160 Air Force Pentagon, Washington, DC 20330-1160.

Contesting record procedures:

The Air Force rules for accessing records and for contesting contents and appealing initial agency determinations are published in Air Force Instruction 33-332, 32 CFR part 806b; or may be obtained from the system manager.

Record source categories:

Information is obtained from requesting office, reports and forms.

Exemptions claimed for the system:

None.

[FR Doc. 04-25548 Filed 11-17-04; 8:45 am]

BILLING CODE 5001-06-P